DEPARTMENT OF TRANSPORTATION

Federal Aviation Administration

14 CFR Part 39

[Docket No. FAA-2019-0602; Product Identifier 2019-NM-016-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2010-26-01, which applies to certain The Boeing Company Model 777-200 series airplanes. AD 2010-26-01 requires installing a new insulation blanket on the latch beam firewall of each thrust reverser (T/R) half. Since AD 2010-26-01 was issued, the agency received a report that the T/R affected by AD 2010-26-01 has the potential to be installed on airplanes outside of the applicability of that AD. This proposed AD would retain the requirements of 2010-26-01. This proposed AD would also add airplanes to the applicability. For those airplanes, this proposed AD would require an inspection to determine if the installed T/R has an affected part number and, if an affected part number is found, installation of a new insulation blanket. The FAA is proposing this AD to address the unsafe condition on these products.

DATES: The FAA must receive comments on this proposed AD by September 23, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2019-0602; or in person at Docket Operations between 9 a.m. and 5 p.m., Monday through Friday, except Federal holidays. The AD docket contains this NPRM, the regulatory evaluation, any comments received, and other information. The street address for Docket Operations is in the ADDRESSES section. Comments will be available in the AD docket shortly after receipt.

FOR FURTHER INFORMATION CONTACT: James Laubaugh, Aerospace Engineer, Propulsion Section, FAA, Seattle ACO Branch, 2200 South 216th St., Des Moines, WA 98198; phone and fax: 206-231-3622; email: james.laubaugh@faa.gov.

SUPPLEMENTARY INFORMATION:

Comments Invited

The FAA invites you to send any written relevant data, views, or arguments about this proposal. Send your comments to an address listed under the ADDRESSES section. Include “Docket No. FAA-2019-0602; Product Identifier 2019-NM-016-AD” at the beginning of your comments. The FAA specifically invites comments on the overall regulatory, economic, environmental, and energy aspects of this NPRM. The FAA will consider all comments received by the closing date and may amend this NPRM because of those comments.

The FAA will post all comments we receive, without change, to http://www.regulations.gov, including any personal information you provide. The FAA will also post a report summarizing each substantive verbal contact we receive about this proposed AD.

Discussion

The FAA issued AD 2010-26-01, Amendment 39-16540 (75 FR 78594, December 16, 2010) (“AD 2010-26-01”), for certain Model 777-200 series airplanes. AD 2010-26-01 requires installing a new insulation blanket on the latch beam firewall of each T/R half. AD 2010-26-01 resulted from an in-flight shutdown due to an engine fire indication; an under-cowl engine fire was extinguished after landing. We issued AD 2010-26-01 to prevent a fire from entering the cowl or strut area, which could weaken T/R parts and result in reduced structural integrity of the T/R, possible separation of T/R parts during flight, and consequent damage to the airplane and injury to people or damage to property on the ground.

Actions Since AD 2010-26-01 Was Issued

Since AD 2010-26-01 was issued, the agency received a report that the T/R affected by AD 2010-26-01 has the potential to be installed on airplanes outside of the applicability of that AD. Therefore, the applicability in this proposed AD has been revised to specify The Boeing Company Model 777-200 series airplanes, equipped with General Electric Company (GE) GE90-76B, -85B, -90B, or -94B engines.

Related Service Information Under 1 CFR Part 51

The FAA reviewed Boeing Service Bulletin 777-78A0066, Revision 3, dated April 28, 2011. This service information describes procedures for installing a new insulation blanket on the latch beam firewall of each T/R half. The installation includes, for certain airplanes, inspecting to determine if fitting part number 315W1436-4 is installed on the aft latch beam of the right side T/R and, for affected fittings, cutting the clevis from the affected fitting.

This proposed AD would also require Boeing Alert Service Bulletin 777-78A0066, Revision 2, dated April 8, 2010, which the Director of the Federal Register approved for incorporation by reference as of January 20, 2011 (75 FR 78594, December 16, 2010).

This service information is reasonably available because the interested parties have access to it through their normal course of business or by the means identified in the ADDRESSES section.

FAA's Determination

The FAA is proposing this AD because the agency evaluated all the relevant information and determined the unsafe condition described previously is likely to exist or develop in other products of the same type design.

Proposed AD Requirements

This proposed AD would retain all requirements of AD 2010-26-01. This proposed AD would also add airplanes to the applicability. For those airplanes, this proposed AD would require an inspection to determine if the installed T/R has an affected part number and, if an affected part number is found, installation of a new insulation blanket.

Costs of Compliance

The FAA estimates that this proposed AD affects 25 airplanes of U.S. registry. The FAA estimates the following costs to comply with this proposed AD:

Estimated Costs
Action | Labor cost | Parts cost | Cost per product | Cost on U.S. operators
Blanket installation (retained actions from AD 2010-26-01) (21 airplanes) | 7 work-hours × $85 per hour = $595 | Up to $5,253 | Up to $5,848 | Up to $122,808.
Inspection and blanket installation (new proposed action) (4 airplanes) | Up to 13 work-hours × $85 per hour = Up to $1,105 | Up to $7,529 | Up to $8,634 | Up to $34,536.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-26-01, Amendment 39-16540 (75 FR 78594, December 16, 2010), and adding the following new AD:

The Boeing Company: Docket No. FAA-2019-0602; Product Identifier 2019-NM-016-AD.

(a) Comments Due Date

The FAA must receive comments on this AD action by September 23, 2019.

(b) Affected ADs

This AD replaces AD 2010-26-01, Amendment 39-16540 (75 FR 78594, December 16, 2010) (“AD 2010-26-01”).

(c) Applicability

This AD applies to The Boeing Company Model 777-200 series airplanes, certificated in any category, equipped with General Electric Company (GE) GE90-76B, -85B, -90B, or -94B engines.

(d) Subject

Air Transport Association (ATA) of America Code 78, Engine exhaust.

(e) Unsafe Condition

This AD was prompted by a report of an in-flight shutdown due to an engine fire indication; an under-cowl engine fire was extinguished after landing and a determination that additional airplanes are affected. The FAA is issuing this AD to prevent a fire from entering the cowl or strut area, which could weaken thrust reverser (T/R) parts and result in reduced structural integrity of the T/R, possible separation of T/R parts during flight, and consequent damage to the airplane and injury to people or damage to property on the ground.

(f) Compliance

Comply with this AD within the compliance times specified, unless already done.

(g) Retained Installation of Insulation Blanket, With Revised Service Information

This paragraph restates the requirements of paragraph (g) of AD 2010-26-01, with revised service information. For airplanes identified in Boeing Alert Service Bulletin 777-78A0066, Revision 2, dated April 8, 2010: Within 60 months or 4,500 flight cycles after January 20, 2011 (the effective date of AD 2010-26-01), whichever is first, install a new insulation blanket on the latch beam firewall of each T/R half by doing all the applicable actions specified in the Accomplishment Instructions of Boeing Service Bulletin 777-78A0066, Revision 3, dated April 28, 2011.

(h) New Requirement: Installation of Insulation Blanket for Additional Airplanes

For airplanes not identified in paragraph (g) of this AD: Within 60 months or 4,500 flight cycles after the effective date of this AD, whichever is first, inspect to determine if the installed T/R has any affected part number as identified in paragraphs (h)(1) through (h)(5) of this AD. If an affected T/R is found or if it cannot be determined which T/R is installed, within 60 months or 4,500 flight cycles after the effective date of this AD, whichever is first, install a new insulation blanket on the latch beam firewall of each T/R half by doing all the applicable actions specified in the Accomplishment Instructions of Boeing Service Bulletin 777-78A0066, Revision 3, dated April 28, 2011, except as specified in paragraph (i) of this AD. A review of airplane maintenance records is acceptable in lieu of this inspection if it can be conclusively determined from that review that the installed T/R is not an affected T/R. A review of airplane maintenance records is also acceptable in lieu of this inspection if it can be conclusively determined from that review that an affected T/R is installed and the actions specified in Boeing Service Bulletin 777-78A0066, Revision 3, dated April 28, 2011, have already been done on that T/R.

(1) 315W1001-XX (all—where “XX” is any combination of numbers and letters that follow the dash).

(2) 315W1295-1 through 315W1295-222 inclusive.

(3) 315W1295-5001 through 315W1295-5222 inclusive.

(4) 315W1295-5501 through 315W1295-5722 inclusive.

(5) 315W1295-6101 through 315W1295-6322 inclusive.

(i) Exceptions to Service Information Specification

(1) Boeing Service Bulletin 777-78A0066, Revision 3, dated April 28, 2011, defines Group 1 as “all 777-200 airplanes with GE90 engines through line number 413 with a forward insulation blanket;” however for paragraph (h) of this AD, Group 1 is defined as “all 777-200 airplanes with GE90 engines with a forward insulation blanket.”

(2) Boeing Service Bulletin 777-78A0066, Revision 3, dated April 28, 2011, defines Group 2 as “all 777-200 airplanes with GE90 engines through line number 413 without a forward insulation blanket;” however for paragraph (h) of this AD, Group 2 is defined as “all 777-200 airplanes with GE90 engines without a forward insulation blanket.”

(3) Boeing Service Bulletin 777-78A0066, Revision 3, dated April 28, 2011, defines Group 2 Configuration 1 as “all 777-200 airplanes with GE90 engines through line number 413 without a forward insulation blanket and without the fitting assembly at the aft insulation blanket location;” however for paragraph (h) of this AD, Group 2 Configuration 1 is defined as “all 777-200 airplanes with GE90 engines without a forward insulation blanket and without the fitting assembly at the aft insulation blanket location.”

(4) Boeing Service Bulletin 777-78A0066, Revision 3, dated April 28, 2011, defines Group 2 Configuration 2 as “all 777-200 airplanes with GE90 engines through line number 413 without a forward insulation blanket and with the fitting assembly at the aft insulation blanket location;” however for paragraph (h) of this AD, Group 2 Configuration 2 is defined as “all 777-200 airplanes with GE90 engines without a forward insulation blanket and with the fitting assembly at the aft insulation blanket location.”

(j) Credit for Previous Actions

This paragraph provides credit for the actions specified in paragraphs (g) and (h) of this AD, if those actions were performed before the effective date of this AD using the service information specified in paragraphs (j)(1), (j)(2), or (j)(3) of this AD.

(1) Boeing Alert Service Bulletin 777-78A0066, dated June 5, 2008.

(2) Boeing Service Bulletin 777-78A0066, Revision 1, dated March 12, 2009.

(3) Boeing Alert Service Bulletin 777-78A0066, Revision 2, dated April 8, 2010.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved previously for AD 2010-26-01 are approved as AMOCs for the corresponding provisions of paragraph (g) of this AD.

(l) Related Information

(1) For more information about this AD, contact James Laubaugh, Aerospace Engineer, Propulsion Section, FAA, Seattle ACO Branch, 2200 South 216th St., Des Moines, WA 98198; phone and fax: 206-231-3622; email: james.laubaugh@faa.gov.

(2) For service information identified in this AD, contact Boeing Commercial Airplanes, Attention: Contractual & Data Services (C&DS), 2600 Westminster Blvd., MC 110-SK57, Seal Beach, CA 90740-5600; telephone 562-797-1717. You may view this referenced service information at the FAA, Transport Standards Branch, 2200 South 216th St., Des Moines, WA. For information on the availability of this material at the FAA, call 206-231-3195.

Issued in Des Moines, Washington, on July 30, 2019.
Dionne Palermo,
Acting Director, System Oversight Division, Aircraft Certification Service.

[FR Doc. 2019-16899 Filed 8-8-19; 8:45 am]

BILLING CODE 4910-13-P